DEPARTMENT OF THE INTERIOR

National Park Service

Final Environmental Impact Statement/Fire Management Plan, Whiskeytown National Recreation Area, Shasta County, CA; Notice of Availability

Summary: Pursuant to § 102(2) (C) of the National Environmental Policy Act of 1969 (Pub. L. 91-190, as amended), and the Council on Environmental Quality Regulations (40 CFR Part 1500-1508), the National Park Service, Department of the Interior, has prepared a Final Environmental Impact Statement identifying and evaluating four alternatives for a Fire Management Plan for Whiskeytown National Recreation Area, California. Potential impacts and mitigating measures are described for each alternative. The alternative selected upon conclusion of the conservation planning/environmental impact analysis process will guide future fire management actions at Whiskeytown National Recreation Area over the next 10 years.

The Whiskeytown Fire Management Plan (FMP) and Final Environmental Impact Statement (FEIS) describes and evaluates three action alternatives and a no action alternative for an updated fire management program at Whiskeytown National Recreation Area. Revisions to the current plan are needed to meet public and firefighter safety, natural and cultural resource management, and wildland urban interface objectives of the park. The action alternatives vary in the emphasis they place on fire management goals developed by the park. The current program has been effective in fire suppression, but has not been able to restore large portions of the park landscape to circa 1800 conditions as required by the park's General Management Plan (GMP). Also, each action alternative would amend the park's GMP to allow future consideration of rebuilding the park's administration building at its current headquarters location, in conjunction with relocating the fire cache to the Oak Bottom recreational complex.

Whiskeytown National Recreation Area is located eight miles west of Redding, California and encompasses 42,500 acres, including the 3000-acre Whiskeytown Lake—a reservoir created as part of California's Central Valley Project, Trinity River Diversion. In the past, wildland fire occurred naturally in the environs of the park as an important ecosystem process that kept forest fuels and vegetation structure within a natural range of variability. Mining, logging and fire suppression activities (mostly pre-dating the establishment of the park) have lead to increased fuel loads and changes in vegetation community structure. In turn this has increased the risk of large, high-intensity wildland fire within the park, threatening developed zones, the park's natural and cultural resources, and neighboring landowners and communities.

Planning Background: A Notice of Intent was published in the Federal Register on August 8, 2001; the public scoping period officially ended on September 15, 2001, although comments were accepted throughout 2002. During this time the park held discussions and briefings with local communities; local residents; local, regional and state fire organizations; air quality regulators; other agency representatives; tribes; elected officials; representatives of city and county government; public service organizations and other interested members of the public. A public scoping meeting was conducted on August 23, 2001 in the town of Old Shasta at Shasta Elementary School. The meeting was advertised in the local media and letters were sent to agencies, organizations and members of the public inviting them to participate in the scoping process. Twenty members of the public attended. Issues raised during scoping included air quality concerns; the management capacity for wildland fire use in a wildland urban interface zone; how well the park met past prescribed fire goals; the use of herbicides; interactions between overstocked forests and beetle infestations; and the use of heavy equipment in forest lands for thinning operations.

Response to the Draft Plan: A Notice of Availability of the Draft Environmental Impact Statement was published in the Federal Register on April 23, 2003, and a press release was issued coinciding with publication of the Federal Register notice (and notice was posted on the park's Web site). Postcards announcing the availability of the draft document were mailed out to the park's mailing list. Copies of the document were available at the park's Visitor Center and at local libraries in Shasta, Tehama and Trinity counties. The public comment period concluded on June 24, 2003.

During April and May, 2003 several hundred copies of the draft plan were mailed to agencies, organizations and interested individuals. During the public comment period, two public meetings were held (May 28 & June 12) and two public tours of the park were held (June 10 & 14). A total of seven pieces of written correspondence were received—including letters from agencies, organizations and individuals (the written comments were received from the local area, with two exceptions, one from Crescent City, California and one from Wisconsin. In addition, 15 people attended public meetings and tours. The following elements received the most comments: Support for addressing the wildland urban interface area; clarifications of the air quality analysis; and qualified support for forest thinning. Comments on wildland fire use were uniformly against the practice of using this management tool at Whiskeytown. All letters with substantive comments noted are reproduced in the WFMP FEIS.

Throughout the overall conservation planning and environmental impact analysis, consultations were held with the U.S. Fish and Wildlife Service, the U.S. Forest Service, the National Marine Fisheries Service, the Bureau of Land Management, the California Department of Forestry and Fire Protection and the California State Historic Preservation Office. Additional consultations were held with local Native American groups and county air districts. With the exceptions of the Bureau of Land Management, the Shasta County air quality district and the California Department of Forestry and Fire Protection, no written comments were received.

Final Proposed Plan and Alternatives: The WFMP FEIS includes three action alternatives and a no action alternative. No substantive changes in actions proposed or attendant mitigation strategies have occurred as a result of public review and comment. Under all of the action alternatives, the park's 2001 GMP would be amended to allow future consideration of rebuilding the park's administration building at its current headquarters location, in conjunction with relocating the fire cache to the Oak Bottom recreational complex.

Under the no-action alternative (Alternative I), the current fire management program would continue utilizing a limited range of fire management strategies—including prescribed fire, limited mechanical treatment and suppression of all wildland fires (including natural ignitions). The current program includes both broadcast and pile burning components, with prescribed fire projects ranging in size from 0.5 to 1000 acres occurring in all vegetation types. Maximum burning in a given year typically is about 1400 acres. Limited mechanical treatment methods would continue to be utilized to reduce hazardous fuel levels in the park. These would include the use of chain saws, weed-eaters, hand crews, and chippers to clear around buildings, to install and maintain shaded fuel breaks, and to clear along roadways. Total maintained shaded fuel break system would be 850 acres, with maintenance occurring at least once every three years as needed. Annual average maintenance of all mechanically treated areas would be 275 acres.

Under Alternative II, the fire program would focus on the application of prescribed fire to meet ecological restoration objectives, and to reduce hazardous fuels throughout the park. All other fires would be suppressed including natural ignitions. Mechanical treatment would only be used to construct prescribed fire burn unit boundaries and to reduce fuels around developed areas. Alternative II would only utilize hand tools, chainsaws, weed eaters and chippers for mechanical treatment for an average 80 acres annually. This alternative would include pile burning and broadcast burning. Projects under Alternative II would include areas up to 1,000 acres in size to simulate, to the greatest extent feasible, the scale and pattern of natural fire events. Up to 3,000 acres would be burned during each year of implementation. Due to windows of opportunity during the dormant season, Alternative II would implement prescribed burns during the non-dormant season from 10%-20% of the time to maximize opportunities for execution of prescribed fire projects.

Under Alternative III, all natural and human-ignited wildland fires would be suppressed. Prescribed burning would only occur in conjunction with mechanical fuel treatments around developments and on shaded fuel breaks. Alternative III would consist of pile burning and a few prescribed fire projects to strengthen and widen by up to ¼ to ½ mile shaded fuel breaks for tactical purposes in the case of suppression fire events. No large, prescribed fires would be conducted. Up to 250 acres would be burned during each year of implementation. This alternative would use mechanical treatment to reduce forest fuels in and around developed areas, and to install new, and widen existing shaded fuel breaks. Hand tools, chainsaws, weed eaters, chippers, and brush masticators would be used. Annual program levels would be up to 225 acres for each of the two mechanical treatment levels proposed in this alternative.

Under the preferred alternative (Alternative IV), the park would focus on restoring Whiskeytown's plant communities to reduce the risk of high severity wildland fire by decreasing forest stand density, reducing surface fuels, and attempting to restore fire as a natural disturbance process to the greatest extent feasible using prescribed fire and mechanical treatment. Up to 2,200 acres per year would be treated through prescribed fire. Three levels of mechanical treatment would be utilized to reduce fuel levels and mimic the effects of fire on structural patterns of woody vegetation, including the use of hand tools, chainsaws, weed eaters, chippers, brush mastication and small-scale logging of trees up to 12 inches in diameter at breast height. Mechanical treatment would be used to reduce forest fuels in and around developed areas, and to install and widen some new and existing shaded fuel breaks. Mechanical treatment would be used on up to 1075 acres per year.

As documented in the FEIS, this alternative is “environmentally preferred” because with the expanded range of management options, Whiskeytown will be able to more quickly reduce the hazardous fuels issues in the wildland urban interface'focusing on community safety. Additionally, greater flexibility in mechanical treatment will allow the park to be better able to manage second growth forest stands and their attendant fuels problems. Improved second growth management is expected to improve wildlife habitat and ecological functions. The other alternatives are not “environmentally preferred” because of the reliance on limited management actions, such as prescribed fire, suppression or simple mechanical treatment. The limited nature of how, where and when each of these alternatives could be implemented increases the public and fire fighter exposure to unsafe conditions and do not adequately address habitat improvement and biological diversity issues.

In addition to minor corrections and editorial changes in preparing the final EIS and WFMP, one element of the proposed plan (as identified in the draft EIS) was modified based on public comment. Comments from the public meetings and letters stressed the importance of protection of private property adjacent to the park and concern about the park's capacity in managing wildland fire use. In response, the NPS planning team recommended removing wildland fire use from consideration as a management tool in the park's fire management program. This change does not constitute an impairment of park resources or a significant impact of a singular or cumulative nature.

Public Availability: The FEIS is now available; copies may be obtained from the Superintendent, Whiskeytown NRA, P.O. Box 188, Whiskeytown, CA 96095; telephone (530) 242-3400. The document will also be posted electronically at the park's Web site (http://www.nps.gov/whis), and distributed to Shasta, Trinity, and Tehama county libraries. Any responses received will be documented and will become part of the public record. If individuals responding request that their name or/and address be withheld from public disclosure, the request will be honored to the extent allowable by law. Such requests must be stated prominently in the beginning of the letter. There also may be circumstances wherein the NPS will withhold a commenter's identity as allowable by law. As always, the NPS will make available to public inspection all submissions from organizations or businesses and from persons identifying themselves as representatives or officials of organizations; and, anonymous comments may not be considered.

Decision: Not sooner than 30 days after EPA's notice of the FEIS filing is published in the Federal Register a Record of Decision will be prepared. Notice of the approved Record of Decision will also be published in the Federal Register. As this is a delegated EIS, the official responsible for the final decision is the Regional Director, Pacific West Region; subsequently the official responsible for implementing the approved fire management plan would be the Superintendent, Whiskeytown National Recreation Area.

Dated: May 7, 2004.
Jonathan B. Jarvis,
Regional Director, Pacific West Region.

[FR Doc. 04-13519 Filed 6-15-04; 8:45 am]

BILLING CODE 4312-52-P